FEDERAL COMMUNICATIONS COMMISSION

47 CFR Part 73

[DA 17-237; MB Docket No. 16-362; RM-11776]

Radio Broadcasting Services; Mullin, Texas

AGENCY: Federal Communications Commission.

ACTION: Final rule.

SUMMARY: At the request of Roy E. Henderson (Petitioner), licensee of FM Station KNUZ (FM), San Saba, Texas, the Audio Division amends the FM Table of Allotments by substituting Channel 277A for Channel 224A at Mullin, Texas. The purpose of this change is to facilitate and grant Petitioner's hybrid application that KNUZ (FM) be modified to operate on Channel 277A rather than Channel 224A at San Saba, Texas. A staff engineering analysis indicates that Channel 277A can be substituted for Channel 224A at Mullin, Texas, as proposed, consistent with the minimum distance separation requirements of the Commission's rules with a site restriction 3.1 km (1.9 miles) north of the community. The reference coordinates are 31-35-00 NL and 98-40-31 WL.

DATES: Effective April 24, 2017.

FOR FURTHER INFORMATION CONTACT: Adrienne Y. Denysyk, Media Bureau, (202) 418-2700.

SUPPLEMENTARY INFORMATION: This is a synopsis of the Commission's Report and Order, MB Docket No. 16-362, adopted March 9, 2017, and released March 10, 2017. The full text of this Commission decision is available for inspection and copying during normal business hours in the FCC's Reference Information Center at Portals II, CY-A257, 445 12th Street SW., Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division,Media Bureau.

For the reasons discussed in the preamble, the Federal Communications Commission amends 47 CFR part 73 as follows:

PART 73—RADIO BROADCAST SERVICES

1. The authority citation for part 73 continues to read as follows:

Authority: 47 U.S.C. 154, 303, 309, 310, 334, 336 and 339.

2. Section 73.202(b), the table is amended under Texas, by adding Mullin, Channel 277A to read as follows:

§ 73.202 Table of Allotments.

* * * * *

(b) * * *

| Channel No.
* * * * *
Texas
* * * * *
Mullin | 277A
* * * * *

* * * * *

[FR Doc. 2017-05855 Filed 3-23-17; 8:45 am]

BILLING CODE 6712-01-P